DEPARTMENT OF THE INTERIOR

Office of the Secretary

Proposed Renewal of Information Collection: OMB Control Number 1094-0001, Alternatives Process in Hydropower Licensing

AGENCY: Office of the Secretary, Interior.

ACTION: Notice and request for comments.

SUMMARY: In compliance with section 3506(c)(2)(A) of the Paperwork Reduction Act of 1995, the Office of Environmental Policy and Compliance, Office of the Secretary, Department of the Interior announces the proposed extension of a public information collection and seeks public comments on the provisions thereof.

DATES: Consideration will be given to all comments received by June 9, 2009.

ADDRESSES: Send your written comments to the Linda S. Thomas, U.S. Department of the Interior, Office of the Secretary, 1951 Constitution Avenue, NW., MS 115 SIB, Washington, DC 20240, phone 202-208-7294, fax 202-219-2374, or by electronic mail to Linda_thomas@nbc.gov. Please mention that your comments concern the Alternatives Process in Hydropower Licensing, OMB Control 1094-0001.

FOR FURTHER INFORMATION CONTACT: To request a copy of the information collection request, any explanatory information and related forms, contact Linda S. Thomas, U.S. Department of the Interior, Office of the Secretary, 1951 Constitution Avenue, NW., MS 115 SIB, Washington, DC 20240, phone 202-208-7294, fax 202-219-2374, or by electronic mail to Linda_thomas@nbc.gov.

SUPPLEMENTARY INFORMATION:

I. Abstract

The Office of Management and Budget (OMB) regulations at 5 CFR part 1320, which implement the Paperwork Reduction Act of 1995, 44 U.S.C. 3501 et seq., require that interested members of the public and affected agencies have an opportunity to comment on information collection and recordkeeping activities (see 5 CFR 1320.8 (d)).

On November 14, 2005, the Departments of Agriculture, the Interior, and Commerce published regulations at 7 CFR part 1, 43 CFR part 45, and 50 CFR part 221, to implement section 241 of the Energy Policy Act of 2005 (EPAct), Public Law 109-58, which the President signed into law on August 8, 2005. Section 241 of the EPAct adds a new section 33 to the Federal Power Act (FPA), 16 U.S.C. 823d, that allows the license applicant or any other party to the license proceeding to propose an alternative to a condition or prescription that one or more of the Departments develop for inclusion in a hydropower license issued by the Federal Energy Regulatory Commission (FERC) under the FPA. This provision requires that the Departments of Agriculture, the Interior and Commerce collect the information covered by 1094-0001.

Under FPA section 33, the Secretary of the Department involved must accept the proposed alternative if the Secretary determines, based on substantial evidence provided by a party to the license proceeding or otherwise available to the Secretary, (a) that the alternative condition provides for the adequate protection and utilization of the reservation, or that the alternative prescription will be no less protective than the fishway initially proposed by the Secretary, and (b) that the alternative will either cost significantly less to implement or result in improved operation of the project works for electricity production.

In order to make this determination, the regulations require that all of the following information be collected: (1) A description of the alternative, in an equivalent level of detail to the Department's preliminary condition or prescription; (2) an explanation of how the alternative: (i) If a condition, will provide for the adequate protection and utilization of the reservation; or (ii) if a prescription, will be no less protective than the fishway prescribed by the bureau; (3) an explanation of how the alternative, as compared to the preliminary condition or prescription, will: (i) cost significantly less to implement; or (ii) result in improved operation of the project works for electricity production; (4) an explanation of how the alternative or revised alternative will affect: (i) energy supply, distribution, cost, and use; (ii) flood control; (iii) navigation; (iv) water supply; (v) air quality; and (vi) other aspects of environmental quality; and (5) specific citations to any scientific studies, literature, and other documented information relied on to support the proposal.

This notice of proposed renewal of an existing information collection is being published by the Office of Environmental Policy and Compliance, Department of the Interior, on behalf of all three Departments, and the data provided below covers anticipated responses (alternative conditions/prescriptions and associated information) for all three Departments.

II. Data

(1) Title: 7 CFR Part 1; 43 CFR Part 45; 50 CFR Part 221; the Alternatives Process in Hydropower Licensing.

OMB Control Number: 1094-0001.

Current Expiration Date: May 31, 2009.

Type of Review: Information Collection Renewal.

Affected Entities: Business or for-profit entities.

Estimated Annual Number of Respondents: 5.

Frequency of Responses: Once per alternative proposed.

(2) Annual Reporting and Recordkeeping Burden:

Total Annual Reporting per Response: 200 hours.

Total Number of Estimated Responses: 5.

Total Annual Reporting: 1,000 hours.

(3) Description of the Need and Use of the Information: The purpose of this information collection is to provide an opportunity for license parties to propose an alternative condition or prescription to that imposed by the Federal Government in the hydropower licensing process.

III. Request for Comments

The Departments invite comments on:

(a) Whether the collection of information is necessary for the proper performance of the functions of the agencies, including whether the information will have practical utility;

(b) The accuracy of the agencies' estimate of the burden of the collection and the validity of the methodology and assumptions used;

(c) Ways to enhance the quality, utility, and clarity of the information to be collected; and

(d) Ways to minimize the burden of the collection of information on those who are to respond, including through the use of appropriate automated, electronic, mechanical, or other collection techniques or other forms of information techniques.

“Burden” means the total time, effort, and financial resources expended by persons to generate, maintain, retain, disclose, or provide information to or for a Federal agency. This includes the time needed to review instructions; to develop, acquire, install, and utilize technology and systems for the purpose of collecting, validating, and verifying information, processing and maintaining information, and disclosing and providing information; to train personnel and to be able to respond to a collection of information, to search data sources, to complete and review the collection of information; and to transmit or otherwise disclose the information.

All written comments, with names and addresses, will be available for public inspection. If you wish us to withhold your personal information, you must prominently state at the beginning of your comment what personal information you want us to withhold. We will honor your request to the extent allowable by law. If you wish to view any comments received, you may do so by scheduling an appointment with the Office of Environmental Policy and Compliance by calling (202) 208-3891. A valid picture identification is required for entry into the Department of the Interior.

An agency may not conduct or sponsor, and a person is not required to respond to, a collection of information unless it displays a currently valid Office of Management and Budget control number.

Dated: April 6, 2009.
Mary Josie Blanchard,
Deputy Director, Office of Environmental Policy and Compliance.

[FR Doc. E9-8178 Filed 4-9-09; 8:45 am]

BILLING CODE 4310-79-P